DEPARTMENT OF AGRICULTURE

Office of the Secretary

[Docket No. 00-060-1]

Declaration of Emergency Because of Glassy-Winged Sharpshooter

The glassy-winged sharpshooter (Homalodisca coagulata), a primary vector of the bacterium that causes Pierce's disease, is becoming established in areas of the State of California.

Pierce's disease, caused by the bacterium Xylella fastidiosa, is an extremely serious plant disease that affects grapes. Infection interferes with the transport of water through grape vines, resulting in severely reduced fruit production and eventually the death of the vine. There is no treatment for the disease; once a grapevine has contracted Pierce's disease, the vine cannot be saved. Pierce's disease is spread over distances by the highly mobile glassy-winged sharpshooter.

Pierce's disease is endemic to States bordering the Gulf of Mexico, as well as mid-Atlantic States in the southeastern United States. Glassy-winged sharpshooter is also indigenous to many of these areas. However, native grapevines in these areas of the southeastern United States appear to be tolerant of Pierce's disease, which limits the effect the disease has on grape production there. Therefore, no regulatory measures have been taken, or will be taken, to control the spread of Pierce's disease in the southeastern United States.

Infestations of Pierce's disease, combined with the recent introduction of glassy-winged sharpshooter, in limited areas of California are presenting a serious threat to grape vineyards in that State. Production grape vines in California have no tolerance for Pierce's disease. Therefore, if glassy-winged sharpshooter is allowed to spread from recently infested areas in California, the overall crop loss and effects on quality as a result of the spread of Pierce's disease could be significant. The estimated annual value of California's grape industry is at least $6 billion. If steps are not taken to eradicate glassy-winged sharpshooter in the recently infested areas in California where it is now known to be present, there is every possibility the disease will eventually spread to other areas of the State, and to other areas of the United States, where susceptible grapes are produced. This would result in substantial losses to producers of grapes, and to those industries that transport, process, or otherwise utilize this fruit. Consumers would also be affected by a reduction in the quantity and quality of grapes available, and by increased prices.

Five distinct strategies have been identified for responding to the glassy-winged sharpshooter in California: (1) A State regulatory program to inspect nursery stock for the presence of glassy-winged sharpshooter before the nursery stock moves from the areas in California where the pest is now known to be present to other areas in the State; (2) a State-wide survey program adequate to detect any additional infestations of glassy-winged sharpshooter that may be present; (3) control operations to establish multi-county pest management areas and apply appropriate insecticide treatments; (4) a research program to identify alternative methods of control and eradication, such as biological controls; and (5) an educational campaign to help the public identify the glassy-winged sharpshooter and the symptoms of Pierce's disease. Initial action was taken by the California Department of Food and Agriculture (CDFA). The Animal and Plant Health Inspection Service, U.S. Department of Agriculture, is working on the detection of glassy-winged sharpshooter in California and on research into new biological control technologies aimed at preventing the spread of Pierce's disease.

Additional funds are needed to conduct the control and eradication programs deemed necessary to protect grape production areas in California.

Therefore, in accordance with section 442, title IV, of the Agricultural Risk Protection Act of 2000 (Public Law 106-224), I declare that there is an emergency that threatens the grape crop of California, and I authorize the transfer and use of such sums as may be necessary from appropriations or other funds available to agencies or corporations of the United States Department of Agriculture for the conduct of a program in California to control and prevent the spread of glassy-winged sharpshooter and Pierce's disease in California and to other noninfested areas of the United States.

Effective Date: This declaration of emergency shall become effective June 23, 2000.

Dan Glickman,
Secretary of Agriculture.

[FR Doc. 00-17151 Filed 7-06-00; 8:45 am]

BILLING CODE 3410-34-U